DEPARTMENT OF ENERGY

[EERE-2021-BT-BC-0013]

Future of Energy Codes Workshop; Reopening of the Public Comment Period

AGENCY: Office of Energy Efficiency and Renewable Energy, Department of Energy.

ACTION: Reopening of the public comment period.

SUMMARY: The U.S. Department of Energy (DOE) is reopening the public comment period for the request for public comments on its public stakeholder workshop on the Future of Energy Codes held June 22 and 24, 2021. DOE published notice of the workshop on June 14, 2021 and requested comments by July 8, 2021. On June 30, 2021, DOE received a request from the American Gas Association, American Public Gas Association, National Association of Home Builders, and National Propane Gas Association to extend the public comment period by 45 days. DOE is reopening the public comment period until July 31, 2021.

DATES: The comment period associated with the Future of Energy Codes Workshop, held on June 22 and 24, 2021 (86 FR 31491) is reopened. DOE will accept stakeholder comments and feedback from the Workshop on or before July 31, 2021.

ADDRESSES: Interested persons are encouraged to submit comments using the Federal eRulemaking Portal at www.regulations.gov. Follow the instructions for submitting comments. Alternatively, interested persons may submit comments, identified by docket number EERE-2021-BT-BC-0013 by any of the following methods:

1. Federal eRulemaking Portal: www.regulations.gov. Follow the instructions for submitting comments.

2. Email: To buildingenergycodesworkshop2021BC0013@ee.doe.gov. Include docket number EERE-2021-BT-BC-0013 in the subject line of the message.

No telefacsimilies (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact the parties listed below to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, not all documents listed in the index may be publicly available, such as information that is exempt from public disclosure. The docket web page can be found at: www.regulations.gov/docket/EERE-2021-BT-BC-0013. The docket web page contains instructions on how to access all documents, including public comments, in the docket.

FOR FURTHER INFORMATION CONTACT:

Jeremiah Williams; U.S. Department of Energy, Office of Energy Efficiency and Renewable Energy, 1000 Independence Avenue SW, EE-5B, Washington, DC 20585; (202) 287-1941; Jeremiah.Williams@ee.doe.gov.

For legal issues, please contact Matthew Ring; U.S. Department of Energy, Office of the General Counsel, 1000 Independence Avenue SW, GC-33, Washington, DC 20585; (202) 586-2555; Matthew.Ring@hq.doe.gov.

SUPPLEMENTARY INFORMATION: On June 14, 2021, DOE published notice of a stakeholder workshop on the Future of Energy Codes (86 FR 31491), which was subsequently held on June 22 and 24, 2021. The workshop highlighted leading advancements in energy codes, bringing together key stakeholders from across the design and construction industry to discuss recent code updates, upcoming trends, as well as opportunities and challenges facing code implementation. In parallel with the workshop, a public docket was made available to provide interested stakeholders the option of submitting written comments, in addition to participating directly in the workshop, with comments requested by July 8, 2021. (86 FR 31491) On June 30, 2021, DOE received a request from the American Gas Association, American Public Gas Association, National Association of Home Builders, and National Propane Gas Association to extend the public comment period by 45 days. These interested parties asked for additional time to review the workshop materials, consider the questions presented, and in recognition that the original comment period included a federal holiday.

After considering the request, DOE finds that a 45-day extension of the initial comment period would unnecessarily delay DOE's ability to utilize information provided in the workshop and in comments. Such delay would also hinder its ability to effectively participate in and support the processes for updating building energy codes. However, DOE recognizes the concerns presented in the request, and DOE believes that a brief reopening of the comment period will enable the public to better review and comment on the information presented at the workshop. Accordingly, DOE finds it appropriate to reopen the comment period and will accept comments until July 31, 2021. DOE will consider any comments received by this date to be timely submitted.

Signing Authority

This document of the Department of Energy was signed on July 2, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2021.
Treena V. Garrett,
Federal Register Liaison Officer, U.S. Department of Energy.

[FR Doc. 2021-14576 Filed 7-8-21; 8:45 am]

BILLING CODE 6450-01-P